NATIONAL FOUNDATION ON THE ARTS AND THE HUMANITIES

National Endowment for the Humanities

Meetings of Humanities Panel

AGENCY: National Endowment for the Humanities, National Foundation on the Arts and the Humanities.

ACTION: Notice of Meetings.

SUMMARY: The National Endowment for the Humanities will hold twenty-five meetings of the Humanities Panel, a federal advisory committee, during April 2015. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See SUPPLEMENTARY INFORMATION for meeting room numbers.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. Date: April 1, 2015.

Time: 8:30 a.m. to 5:00 p.m.

Room: P003.

This meeting will discuss applications on the subjects of Social Sciences and Communication for Collaborative Research Grants, submitted to the Division of Research Programs.

2. Date: April 1, 2015.

Time: 8:30 a.m. to 5:00 p.m.

Room: 4002.

This meeting will discuss applications on the subjects of Visual Arts and Culture for Media Projects: Production Grants, submitted to the Division of Public Programs.

3. Date: April 2, 2015.

Time: 8:30 a.m. to 5:00 p.m.

Room: P003.

This meeting will discuss applications on the subject of World Literature for Scholarly Editions and Translations Grants, submitted to the Division of Research Programs.

4. Date: April 2, 2015.

Time: 8:30 a.m. to 5:00 p.m.

Room: P002.

This meeting will discuss applications for the Sustaining Cultural Heritage Collections grant program, submitted to the Division of Preservation and Access.

5. Date: April 7, 2015.

Time: 8:30 a.m. to 5:00 p.m.

Room: P002.

This meeting will discuss applications for the Sustaining Cultural Heritage Collections grant program, submitted to the Division of Preservation and Access.

6. Date: April 9, 2015.

Time: 8:30 a.m. to 5:00 p.m.

Room: P002.

This meeting will discuss applications for the Sustaining Cultural Heritage Collections grant program, submitted to the Division of Preservation and Access.

7. Date: April 13, 2015.

Time: 8:30 a.m. to 5:00 p.m.

Room: P002.

This meeting will discuss applications for the Institutes for College and University Teachers grant program, submitted to the Division of Education Programs.

8. Date: April 14, 2015.

Time: 8:30 a.m. to 5:00 p.m.

Room: P002.

This meeting will discuss applications for the Institutes for School Teachers grant program, submitted to the Division of Education Programs.

9. Date: April 14, 2015.

Time: 8:30 a.m. to 5:00 p.m.

Room: 4002.

This meeting will discuss applications on the subject of History for Museums, Libraries and Cultural Organizations: Implementation Grants, submitted to the Division of Preservation and Access.

10. Date: April 15, 2015.

Time: 8:30 a.m. to 5:00 p.m.

Room: P002.

This meeting will discuss applications for the Seminars for College Teachers grant program, submitted to the Division of Education Programs.

11. Date: April 16, 2015.

Time: 8:30 a.m. to 5:00 p.m.

Room: P002.

This meeting will discuss applications for the Seminars for School Teachers grant program, submitted to the Division of Education Programs.

12. Date: April 16, 2015.

Time: 8:30 a.m. to 5:00 p.m.

Room: 4002.

This meeting will discuss applications on the subjects of Music and Literature for Media Projects: Production Grants, submitted to the Division of Public Programs.

13. Date: April 20, 2015.

Time: 8:30 a.m. to 5:00 p.m.

Room: P002.

This meeting will discuss applications for the Institutes for College and University Teachers grant program, submitted to the Division of Education Programs.

14. Date: April 21, 2015.

Time: 8:30 a.m. to 5:00 p.m.

Room: P002.

This meeting will discuss applications for the Landmarks of American History: Workshops for School Teachers grant program, submitted to the Division of Education Programs.

15. Date: April 21, 2015.

Time: 8:30 a.m. to 5:00 p.m.

Room: 4002.

This meeting will discuss applications on the subject of History for Museums, Libraries, and Cultural Organizations: Implementation Grants, submitted to the Division of Public Programs.

16. Date: April 22, 2015.

Time: 8:30 a.m. to 5:00 p.m.

Room: P002.

This meeting will discuss applications for the Institutes for School Teachers grant program, submitted to the Division of Education Programs.

17. Date: April 23, 2015.

Time: 8:30 a.m. to 5:00 p.m.

Room: P002.

This meeting will discuss applications for the Landmarks of American History: Workshops for School Teachers grant program, submitted to the Division of Education Programs.

18. Date: April 23, 2015.

Time: 8:30 a.m. to 5:00 p.m.

Room: 4002.

This meeting will discuss applications on the subject of History for Museums, Libraries, and Cultural Organizations: Implementation Grants, submitted to the Division of Public Programs.

19. Date: April 27, 2015.

Time: 8:30 a.m. to 5:00 p.m.

Room: P002.

This meeting will discuss applications for the Landmarks of American History: Workshops for School Teachers grant program, submitted to the Division of Education Programs.

20. Date: April 28, 2015.

Time: 8:30 a.m. to 5:00 p.m.

Room: P002.

This meeting will discuss applications for the Seminars for College Teachers grant program, submitted to the Division of Education Programs.

21. Date: April 29, 2015.

Time: 8:30 a.m. to 5:00 p.m.

Room: P002.

This meeting will discuss applications for the Landmarks of American History: Workshops for School Teachers grant program, submitted to the Division of Education Programs.

22. Date: April 29, 2015.

Time: 8:30 a.m. to 5:00 p.m.

Room: Conference Call.

This meeting will discuss applications for the National Digital Newspaper Program, submitted to the Division of Preservation and Access.

23. Date: April 29, 2015.

Time: 8:30 a.m. to 5:00 p.m.

Room: P003.

This meeting will discuss applications on the subject of Research for Digital Humanities: Implementation Grants, submitted to the Office of Digital Humanities.

24. Date: April 30, 2015.

Time: 8:30 a.m. to 5:00 p.m.

Room: P002.

This meeting will discuss applications for the Seminars for School Teachers grant program, submitted to the Division of Education Programs.

25. Date: April 30, 2015.

Time: 8:30 a.m. to 5:00 p.m.

Room: P003.

This meeting will discuss applications on the subject of Scholarly Communication for Digital Humanities: Implementation Grants, submitted to the Office of Digital Humanities.

Because these meetings will include review of personal and/or proprietary financial and commercial information given in confidence to the agency by grant applicants, the meetings will be closed to the public pursuant to sections 552b(c)(4) and 552b(c)(6) of title 5, U.S.C., as amended. I have made this determination pursuant to the authority granted me by the Chairman's Delegation of Authority to Close Advisory Committee Meetings dated July 19, 1993.

Dated: March 10, 2015.
Lisette Voyatzis,
Committee Management Officer.

[FR Doc. 2015-05805 Filed 3-12-15; 8:45 am]

BILLING CODE 7036-01-P